DEPARTMENT OF VETERANS AFFAIRS

38 CFR Part 4

RIN 2900-AM75

Schedule for Rating Disabilities; Evaluation of Residuals of Traumatic Brain Injury (TBI); Correction

AGENCY: Department of Veterans Affairs.

ACTION: Correcting amendment.

SUMMARY: This document contains a minor correction to the final rulemaking that the Department of Veterans Affairs (VA) published at 73 FR 54693 on September 23, 2008. The rulemaking relates to a revision of the portion of VA's Schedule for Rating Disabilities that addresses neurological conditions and convulsive disorders to provide detailed and updated criteria for evaluating residuals of traumatic brain injury (TBI).

DATES: Effective Date: November 19, 2008.

FOR FURTHER INFORMATION CONTACT: Rhonda F. Ford, Chief, Regulations Staff (211D), Compensation and Pension Service, Veterans Benefits Administration, Department of Veterans Affairs, 810 Vermont Avenue, NW., Washington, DC 20420, (202) 461-9739 (This is not a toll-free number).

SUPPLEMENTARY INFORMATION: VA published a document in the Federal Register on September 23, 2008, at 73 FR 54693, revising the portion of the Rating Schedule regarding traumatic brain injury (TBI). In the Federal Register document, a period was left off the end of Note (4) of diagnostic code 8045 in 38 CFR 4.124a. Additionally, we provided updates to 38 CFR part 4, Appendices A and C to reflect the changes to the TBI rating criteria. An extra “4.124a” was erroneously added in Appendix A, and “Traumatic Brain Injury residuals” with diagnostic code 8045, was not added alphabetically. This document corrects those errors.

List of Subjects in 38 CFR Part 4

Disability benefits, Pensions, Veterans.

Approved: October 29, 2008.
William F. Russo,
Director, Regulations Management.

For the reasons set out in the preamble, VA is correcting 38 CFR part 4 as follows.

PART 4—SCHEDULE FOR RATING DISABILITIES

1. The authority citation for part 4 continues to read as follows:

Authority: 38 U.S.C. 1155, unless otherwise noted.

2. In § 4.124a, diagnostic code 8045, Note (4), add a period at the end of the paragraph.

3. In Appendix A to Part 4, under the “Sec.” heading, remove from the table the second entry “4.124a”.

4. In Appendix C to Part 4—Alphabetical Index of Disabilities table, remove the entry “Traumatic brain injury residuals” and its diagnostic code “8045” and add it in alphabetical order after the entry “Toxic nephropathy”.

[FR Doc. E8-27457 Filed 11-18-08; 8:45 am]

BILLING CODE 8320-01-P